DEPARTMENT OF COMMERCE

Bureau of Industry and Security

Information Systems Technical Advisory Committee; Notice of Partially Closed Meeting

The Information Systems Technical Advisory Committee (ISTAC) will meet on February 9 and 10, 2004, 9 a.m., Building 128, 53560 Hull Street, Space and Naval Warfare Systems Command (SPAWAR), San Diego, California. The Committee advises the Office of the Assistant Secretary for Export Administration on technical questions that affect the level of export controls applicable to information systems equipment and technology.

January 9

Public Session

1. Opening remarks and introductions.

2. Comments or presentations by the public.

3. Discussion on semiconductor manufacturing equipment controls.

4. Discussion on microprocessor roadmap and trends.

Closed Session

5. Discussion of matters determined to be exempt from the provisions relating to public meetings found in 5 U.S.C. app. 2, sections 10(a)(1) and 10(a)(3).

January 10

Public Session

6. Presentation on high-performance computer market trends.

7. Second presentation on microprocessor roadmap and trends.

Closed Session

8. Discussion of matters determined to be exempt from the provisions relating to public meetings found in 5 U.S.C. app. 2, sections 10(a)(1) and 10(a)(3).

A limited number of seats will be available for the public session. Reservations are not accepted. To the extent time permits, members of the public may present oral statements to the Committee. The public may submit written statements at any time before or after the meeting. However, to facilitate distribution of public presentation materials to Committee members, the Committee suggests that public presentation materials or comments be forwarded before the meeting to the address listed below:

Ms. Lee Ann Carpenter, Advisory Committees MS: 1099D, U.S. Department of Commerce, 14th St. & Constitution Ave, NW., Washington, DC 20230.

The Assistant Secretary for Administration, with the concurrence of the delegate of the General Counsel, formally determined on January 20, 2004, pursuant to section 10(d) of the Federal Advisory Committee Act, as amended (5 U.S.C. app. 2, section (10)(d)), that the portion of this meeting dealing with pre-decisional changes to the Commerce Control List and U.S. export control policies shall be exempt from the provisions relating to public meetings found in 5 U.S.C. app. 2, sections 10(a)(1) and 10(a)(3).

For more information, contact Lee Ann Carpenter on 202-482-2583.

Dated: January 21, 2004.
Lee Ann Carpenter,
Committee Liaison Officer.

[FR Doc. 04-1533 Filed 1-22-04; 8:45 am]

BILLING CODE 3510-JT-P